DEPARTMENT OF HOMELAND SECURITY

Federal Emergency Management Agency

[Docket ID FEMA-2022-0002; Internal Agency Docket No. FEMA-B-2291]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Federal Emergency Management Agency, Department of Homeland Security.

State and county | Location and case No. | Chief executive officer of community | Community map repository | Online location of letter of map revision | Date of modification | Community No.
Colorado:
Jefferson. | City of Arvada (21-08-1154P). | The Honorable Marc Williams, Mayor, City of Arvada, 8101 Ralston Road, Arvada, CO 80002. | Engineering Division, 8101 Ralston Road, Arvada, CO 80002. | https://msc.fema.gov/portal/advanceSearch. | Jan. 20, 2023 | 085072
Jefferson. | Unincorporated areas of Jefferson County (21-08-1154P). | The Honorable Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Jan. 20, 2023 | 080087
Jefferson. | Unincorporated areas of Jefferson County (22-08-0163P). | The Honorable Andy Kerr, Chair, Jefferson County Board of Commissioners, 100 Jefferson County Parkway, Suite 5550, Golden, CO 80419. | Jefferson County Planning and Zoning Division, 100 Jefferson County Parkway, Suite 3550, Golden, CO 80419. | https://msc.fema.gov/portal/advanceSearch. | Feb. 10, 2023 | 080087
Larimer. | Town of Estes Park (22-08-0205P). | The Honorable Wendy Koenig-Schuett, Mayor, Town of Estes Park, P.O. Box 1200, Estes Park, CO 80517. | Town Hall, 170 MacGregor Avenue, Estes Park, CO 80517. | https://msc.fema.gov/portal/advanceSearch. | Feb. 2, 2023 | 080193
Larimer. | Unincorporated areas of Larimer County (22-08-0205P). | The Honorable Kristin Stephens, Chair, Larimer County, Board of Commissioners, 200 West Oak Street, Suite 2200, Fort Collins, CO 80521. | Larimer County Engineering Department, 200 West Oak Street, Suite 3000, Fort Collins, CO 80521. | https://msc.fema.gov/portal/advanceSearch. | Feb. 2, 2023 | 080101
Weld. | Town of Windsor (22-08-0286P). | The Honorable Paul Rennemeyer, Mayor, Town of Windsor, 301 Walnut Street, Windsor, CO 80550. | Town Hall, 301 Walnut Street, Windsor, CO 80550. | https://msc.fema.gov/portal/advanceSearch. | Feb. 6, 2023 | 080264
Weld. | Unincorporated areas of Weld County (22-08-0286P). | Scott James, Chair, Weld County, Board of Commissioners, 1150 O Street, Greeley, CO 80632. | Weld County Administration Building, 1150 O Street, Greeley, CO 80632. | https://msc.fema.gov/portal/advanceSearch. | Feb. 6, 2023 | 080266
Florida:
Collier. | City of Marco Island (22-04-4408P). | Mike McNees, Manager, City of Marco Island, 50 Bald Eagle Drive, Marco Island, FL 34145. | Building Services Department, 50 Bald Eagle Drive, Marco Island, FL 34145. | https://msc.fema.gov/portal/advanceSearch. | Jan. 27, 2023 | 120426
Hillsborough. | City of Tampa (22-04-3679P). | The Honorable Jane Castor, Mayor, City of Tampa, 306 East Jackson Street, Tampa, FL 33602. | Planning Department, 1400 North Boulevard, 306 East Jackson Street, Tampa, FL 33607. | https://msc.fema.gov/portal/advanceSearch. | Feb. 16, 2023 | 120114
Monroe. | Unincorporated areas of Monroe County (22-04-5024P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Feb. 21, 2023 | 125129
Monroe. | Unincorporated areas of Monroe County (22-04-5026P). | The Honorable David Rice, Mayor, Monroe County Board of Commissioners, 9400 Overseas Highway, Suite 210, Marathon, FL 33050. | Monroe County Building Department, 2798 Overseas Highway, Suite 300, Marathon, FL 33050. | https://msc.fema.gov/portal/advanceSearch. | Feb. 21, 2023 | 125129
Monroe. | Village of Islamorada (22-04-2883P). | The Honorable Pete Bacheler, Mayor, Village of Islamorada, 86800 Overseas Highway, Islamorada, FL 33036. | Building Department, 86800 Overseas Highway, Islamorada, FL 33036. | https://msc.fema.gov/portal/advanceSearch. | Jan. 3, 2023 | 120424
Monroe. | Village of Islamorada (22-04-5027P). | The Honorable Pete Bacheler, Mayor, Village of Islamorada, 86800 Overseas Highway, Islamorada, FL 33036. | Building Department, 86800 Overseas Highway, Islamorada, FL 33036. | https://msc.fema.gov/portal/advanceSearch. | Feb. 13, 2023 | 120424
Polk. | Unincorporated areas of Polk County (22-04-1142P). | Bill Beasley, Manager, Polk County, P.O. Box 9005, Bartow, FL 33831. | Polk County Land Development Division, 330 West Church Street, Bartow, FL 33830. | https://msc.fema.gov/portal/advanceSearch. | Jan. 26, 2023 | 120261
Volusia. | City of Daytona Beach (21-04-5321P). | Deric C. Feacher, Manager, City of Daytona Beach, 301 South Ridgewood Avenue, Daytona Beach, FL 32115. | Utilities Department, 125 Basin Street, Suite 100 Daytona Beach, FL 32114. | https://msc.fema.gov/portal/advanceSearch. | Feb. 7, 2023 | 125099
Volusia. | Unincorporated areas of Volusia County (21-04-5321P). | George Recktenwald, Manager, Volusia County, 123 West Indiana Avenue, Deland, FL 32720. | Thomas C. Kelly Administration Center, 123 West Indiana Avenue, Deland, FL 32720. | https://msc.fema.gov/portal/advanceSearch. | Feb. 7, 2023 | 125155
North Carolina:
Franklin. | Unincorporated areas of Franklin County (22-04-3395P) | The Honorable Michael S. Schriver, Chair, Franklin County Board of Commissioners, 113 Market Street, Louisburg, NC 27549. | Franklin County Planning and Inspections Department, 215 East Nash Street, Louisburg, NC 27549. | https://msc.fema.gov/portal/advanceSearch. | Feb. 10, 2023 | 370377
Wake. | City of Raleigh (21-04-0780P). | The Honorable Mary-Ann Baldwin, Mayor, City of Raleigh, 222 West Hargett Street, Raleigh, NC 27602. | Engineering Services Department, 1 Exchange Plaza, Suite 706, Raleigh, NC 27601. | https://msc.fema.gov/portal/advanceSearch. | Jan. 5, 2023 | 370243
Oklahoma: Rogers. | City of Owasso (22-06-1793P). | The Honorable Kelly Lewis, Mayor, City of Owasso, 200 South Main Street, Owasso, OK 74055. | Public Works Department, 301 West 2nd Avenue, Owasso, OK 74055. | https://msc.fema.gov/portal/advanceSearch. | Feb. 16, 2023 | 400210
Pennsylvania: Lehigh. | Township of Upper Macungie (22-03-0156P). | The Honorable James M. Brunell, Chair, Township of Upper Macungie, Board of Supervisors, 8330 Schantz Road, Breinigsville, PA 18031. | Township Hall, 8330 Schantz Road, Breinigsville, PA 18031. | https://msc.fema.gov/portal/advanceSearch. | Feb. 3, 2023 | 421044
Texas:
Bexar. | City of San Antonio (21-06-2098P). | The Honorable Ron Nirenberg, Mayor, City of San Antonio, P.O. Box 839966, San Antonio, TX 78283. | Transportation and Capitol Improvements, Storm Water Division Department, 1901 South Alamo Street, 2nd Floor, San Antonio, TX 78204. | https://msc.fema.gov/portal/advanceSearch. | Jan. 23, 2023 | 480045
Bexar. | Unincorporated areas of Bexar County (21-06-2098P). | The Honorable Nelson W. Wolff, Bexar County Judge, 101 West Nueva Street, 10th Floor, San Antonio, TX 78205. | Bexar County Public Works Department, 1948 Probandt Street, San Antonio, TX 78283. | https://msc.fema.gov/portal/advanceSearch. | Jan. 23, 2023 | 480035
Collin. | City of Celina (22-06-0892P). | The Honorable Sean Terry, Mayor, City of Celina, 142 North Ohio Street, Celina, TX 75009. | City Hall, 142 North Ohio Street, Celina, TX 75009. | https://msc.fema.gov/portal/advanceSearch. | Feb. 7, 2023 | 480133
Harris. | City of Houston (22-06-0051P). | The Honorable Sylvester Turner, Mayor, City of Houston, P.O. Box 1562, Houston, TX 77251. | Floodplain Management Department, 1002 Washington Avenue, Houston, TX 77002. | https://msc.fema.gov/portal/advanceSearch. | Jan. 30, 2023 | 480296
Harris. | Unincorporated areas of Harris County (22-06-1000P). | The Honorable Lina Hidalgo, Harris County Judge, 1001 Preston Street, Suite 911, Houston, TX 77092. | Harris County Engineering Department, Permit Division, 10555 Northwest Freeway, Suite 120, Houston, TX 77092. | https://msc.fema.gov/portal/advanceSearch. | Jan. 30, 2023 | 480287
Williamson. | City of Hutto (21-06-3276P). | The Honorable Mike Snyder, Mayor, City of Hutto, 500 West Live Oak Street, Hutto, TX 78634. | Department of Public Works, 210 U.S. Highway 79 East, Suite 203, Hutto, TX 78634. | https://msc.fema.gov/portal/advanceSearch. | Feb. 2, 2023 | 481047
Williamson. | Unincorporated areas of Williamson County (21-06-3276P). | The Honorable Bill Gravell, Jr., Williamson County Judge, 710 South Main Street, Suite 101, Georgetown, TX 78626. | Williamson County Central Maintenance Facility, 3151 Southeast Inner Loop, Georgetown, TX 78216. | https://msc.fema.gov/portal/advanceSearch. | Feb. 2, 2023 | 481079
Wisconsin: Dane. | City of Madison (22-05-1179P). | The Honorable Satya Rhodes-Conway, Mayor, City of Madison, 210 Martin Luther King Jr. Boulevard, Room 403, Madison, WI 53703. | Municipal Building, 215 Martin Luther King Jr. Boulevard, Room 017, Madison, WI 53703. | https://msc.fema.gov/portal/advanceSearch. | Feb. 1, 2023 | 550083
Utah:
Salt Lake. | City of Riverton (22-08-0092P). | The Honorable Trent Staggs, Mayor, City of Riverton, 12830 South Redwood Road, Riverton, UT 84065. | Public Works Department, 12526 South 4150 West, Riverton, UT 84065. | https://msc.fema.gov/portal/advanceSearch. | Feb. 16, 2023 | 490104
Salt Lake. | City of South Jordan (22-08-0092P). | The Honorable Dawn R. Ramsey, Mayor, City of South Jordan, 1600 West Towne Center Drive, South Jordan, UT 84095. | Engineering Services Department, 1600 West Towne Center Drive, South Jordan, UT 84095. | https://msc.fema.gov/portal/advanceSearch. | Feb. 16, 2023 | 490107
Wyoming: Sweetwater. | City of Rock Springs (22-08-0270P). | The Honorable Tim Kaumo, Mayor, City of Rock Springs, 212 D Street, Rock Springs, WY 82901. | Department of Planning and Zoning, 212 D Street, Rock Springs, WY 82901. | https://msc.fema.gov/portal/advanceSearch. | Jan. 19, 2023 | 560051

[FR Doc. 2022-25907 Filed 11-25-22; 8:45 am]

BILLING CODE 9110-12-P